SECURITIES AND EXCHANGE COMMISSION

[Release No. 34-76063A; File No. SR-NYSEARCA-2015-81]

Self-Regulatory Organizations; Notice of Filing of Proposed Rule Change Amending Several Rules To Address Certain Order Handling Obligations on the Part of Its Floor Brokers

October 9, 2015.

AGENCY: Securities and Exchange Commission.

ACTION: Notice; correction.

SUMMARY: The Securities and Exchange Commission published a document in the Federal Register of October 9, 2015 concerning a Notice of Filing of Proposed Rule Change Amending Several Rules to Address Certain Order Handling Obligations on the Part of Its Floor Brokers. The document incorrectly indicated that the Commission had waived the operative delay for the proposed rule change.

FOR FURTHER INFORMATION CONTACT: Marc F. McKayle, Division of Trading and Markets, Securities and Exchange Commission, 100 F Street NE., Washington, DC 20549, (202) 551-5633.

Correction

In the Federal Register of October 7, 2015, in FR Doc No: 2015-25463, on page 60723, the sentences from the 24th line through the 42nd line of the third column referring to the operative delay should be deleted.

Robert W. Errett,
Deputy Secretary.

[FR Doc. 2015-26330 Filed 10-15-15; 8:45 am]

BILLING CODE 8011-01-P